DEPARTMENT OF COMMERCE

National Oceanic and Atmospheric Administration

RIN 0648-XD786

Gulf of Mexico Fishery Management Council; Public Meetings

AGENCY: National Marine Fisheries Service (NMFS), National Oceanic and Atmospheric Administration (NOAA), Commerce.

ACTION: Notice; public meetings.

SUMMARY: The Gulf of Mexico Fishery Management Council (Council) will hold a meeting of its Standing, Special Reef Fish, Special Shrimp and Special Spiny Lobster Scientific and Statistical Committees (SSC).

DATES: The meeting will convene at 1 p.m. Tuesday, March 10, 2015 and conclude by 12 noon on Thursday, March 12, 2015.

ADDRESSES: The meeting will be held at the Gulf of Mexico Fishery Management Council office, 2203 North Lois Avenue, Suite 1100, Tampa, FL 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agenda are as follows:

Standing, Special Shrimp and Special Spiny Lobster SSC Agenda, Tuesday, March 10, 2015, 1 p.m. Until 5:30 p.m.

I. Introductions and Adoption of Agenda

II. Approval of Minutes

a. August 2014 Standing and Special Shrimp SSC

b. January 2011 Standing, Special Spiny Lobster and Special Reef Fish SSC

III. Selection of SSC representative at March, 2015 Council meeting

IV. Report on the MSY ABC Control Rule Workshop for Penaeid Shrimp

a. AP recommendations

b. Shrimp 15 implications

V. Shrimp Amendment 17

a. Working Group recommendations

b. AP recommendations

VI. Spiny Lobster 2013-14 Landings

a. Report on Review Panel for Spiny Lobster

Standing, Special Reef Fish SSC Agenda, Wednesday, March 11, 2015, 8:30 a.m. Until 5 p.m. and Thursday, March 12, 2015, 8:30 a.m. Until 12 Noon—If Needed

VII. Approval of Minutes

a. January 2014 Standing and Special Reef Fish SSC

b. January 2011 Standing, Special Spiny Lobster and Special Reef Fish SSC

VIII. Reorganization of SSCs as approved by Council

IX. FWC Mutton Snapper Update Assessment

X. Hogfish OFL and ABC

a. OFL and ABC recommendations for Gulf stock

XI. Minimum Stock Size Threshold Amendment

XII. SEDAR 45 vermilion snapper Terms of Reference and Project Schedule

XIII. Review of draft National Standard 1 Guideline revisions

XIV. Review of NMFS Climate Change Strategy

XV. National SSC Workshop V Summary

XVI. Ecosystem Working Group Summary

a. Ecosystem SSC recommendations

XVII. Other Business

—Adjourn—

The Agenda is subject to change, and the latest version will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting—2015-03”.

The meeting will be webcast over the internet. A link to the webcast will be available on the Council's Web site, http://www.gulfcouncil.org.

Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 19, 2015.
Tracey L. Thompson,
Acting Deputy Director, Office of Sustainable Fisheries, National Marine Fisheries Service.

[FR Doc. 2015-03701 Filed 2-23-15; 8:45 am]

BILLING CODE 3510-22-P